DEPARTMENT OF COMMERCE

National Oceanic and Atmospheric Administration

RIN 0648-XA801

Fisheries of the Pacific Region

AGENCY: National Marine Fisheries Service (NMFS), National Oceanic and Atmospheric Administration (NOAA), Commerce.

ACTION: Notification of determination of an overfished condition.

SUMMARY: This action serves as a notice that NMFS, on behalf of the Secretary of Commerce (Secretary), has determined that Pacific ocean perch, (Sebastes alutus), which is managed by the Pacific Fishery Management Council, is in an overfished condition.

NMFS notifies the appropriate fishery management council (Council) whenever it determines that overfishing is occurring, a stock is in an overfished condition, or a stock is approaching an overfished condition.

FOR FURTHER INFORMATION CONTACT: Mark Nelson, (301) 427-8565.

SUPPLEMENTARY INFORMATION: Pursuant to sections 304(e)(2) and (e)(7) of the Magnuson-Stevens Fishery Conservation and Management Act (Magnuson-Stevens Act), 16 U.S.C. 1854(e)(2) and (e)(7), and implementing regulations at 50 CFR 600.310(e)(2), NMFS, on behalf of the Secretary, notifies Councils whenever it determines; a stock or stock complex is approaching an overfished condition, a stock or stock complex is overfished, or existing action taken to prevent previously identified overfishing or rebuilding a previously identified overfished stock or stock complex has not resulted in adequate progress. NMFS also notifies Councils when it determines a stock or stock complex is subject to overfishing.

On September 30, 2011, NMFS informed the Pacific Fishery Management Council that the most recent stock assessment for Pacific ocean perch found that the biomass is below the overfished threshold. A review of the stock assessment determined that it constituted the best available information and that the change in the stock status was primarily a result of using a different model to assess the stock. The assessment also found that overfishing was not occurring and that the stock of Pacific ocean perch is rebuilding.

Pacific ocean perch are currently under a rebuilding plan. The Council must continue to take measures to ensure that overfishing does not occur and that the stock rebuilds on schedule. If additional information were to reveal any concern over maintaining the current rebuilding progress, changes to the management or rebuilding parameters of Pacific ocean perch could be addressed through the biennial specification and management measures process.

Dated: November 8, 2011.
Steven Thur,
Acting Director, Office of Sustainable Fisheries, National Marine Fisheries Service.

[FR Doc. 2011-29318 Filed 11-10-11; 8:45 am]

BILLING CODE 3510-22-P